DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” demote a modification request. There applications have been separated from the new application for special permits to facilitate processing.

DATES: Comments must be received on or before November 3, 2008.

Address Comments To: Record Center, Pipeline and Hazardous Materials, Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington DC or at http://dms.dot.gov.

This notice of receipt of applications for modification of special permit is published in accordance with Part 107 of the Federal hazardous materials transportation law (49 U.S.C. 5117(b); 49 CFR 1.53(b)).

Issued in Washington, DC, on October 9, 2008.
Delmer F. Billings,
Director, Office of Hazardous Materials, Special Permits and Approvals.

Modification Special Permits
Application No. | Docket No. | Applicant | Regulation(s) affected | Nature of special permit thereof
6614-M |  | Auto-Chlor System, Memphis, TN | 49 CFR 173.202; 173.203 | To modify the special permit to authorize the transportation in commerce of an additional Class 8 material in non-DOT specification polyethylene bottles placed in a polyethylene crate.
8006-M |  | JA-RU, Inc., Jacksonville, FL | 49 CFR 172.400(a); 172.504 Table 2; 172.101; 172.202(a)(3); 172.301(a) | To modify the special permit to authorize the transportation in commerce of certain toy caps by JaRu customers between their distribution centers and their retail stores without meeting the marking and packaging requirements.
8215-M |  | Olin Corporation, Winchester Division (Former Grantee: Olin Corporation, Brass and Winchester, Inc.) East Alton, IL | 49 CFR Part 172, Subpart E; 172.320; 173.62(c); 173.212; 172.504(e) | To modifly the special permit to add a specially designed truck to haul hazardous materials.
12102-M |  | Veolia ES Technical Solutions, L.L.C., Flanders, NJ | 49 CFR 173.56(i); 173.56(b) | To modify the special permit to authorize the transportation in commercie of an additional Class 3 and Division 4.1 hazardous material.
12690-M |  | Air Products & Chemicals, Inc., Allentown, PA | 49 CFR 173.304(a)(2), Note 2 | To modify the special permit to authorize ultrasonic testing of cylinders and to add a drawing.
14158-M |  | UTC Power Corporation, South Windsor, CT | 49 CFR 176.83 | To modify the special permit to authorize more than one package of a Division 4.2 solid in the same assembly unit with more than one package of Class 8 liquids.
14287-M |  | Troxler Electronic Laboratories, Inc., Research Triangle Park, NC | 49 CFR 173.431 | To modify the special permit to authorize an additional source capsule model number.
14715-M |  | The Linde Group, Murray Hill, NJ | 49 CFR 173.301(d)(2); 173.302(a)(3); 178.37-5 | To reissue the special permit originally issued on an emergency basis for the transportation in commerce of DOT Specification 3AAX cylinders made of 4130X steel for transportation of a compressed natural gas.
14732-M |  | Johnson Controls Rental Solutions, Indianapolis, IN | 49 CFR 173.306(e)(1) | To reissue the special permit originally issued on the emergency basis for transportation in commerce of reconditioned (used) refrigerating machines containing a group A1 refrigerant by motor vehicle.

[FR Doc. E8-24617 Filed 10-16-08; 8:45 am]

BILLING CODE 4909-60-M